DEPARTMENT OF STATE

22 CFR Parts 22 and 51

[Public Notice: 9350]

RIN 1400-AD76

Elimination of Visa Page Insert Service for U.S. Passport Book Holders

AGENCY: Department of State.

ACTION: Final rule.

SUMMARY: On April 29, 2015, the Department of State published a notice of proposed rulemaking (NPRM) that proposed eliminating the visa page insert service for regular fee passport book holders beginning January 1, 2016. The Department is finalizing the proposed rule without change.

DATES: This rule is effective January 1, 2016.

FOR FURTHER INFORMATION CONTACT: Michael Holly, Passport Services, Bureau of Consular Affairs; 202-485-6373: PassportRules@state.gov.

SUPPLEMENTARY INFORMATION:

Background

On April 29, 2015, the Department of State published a NPRM that proposed eliminating the visa page insert service for regular fee passport book holders beginning January 1, 2016. See 80 FR 23754. As explained in the NPRM, the effective date of this rule coincides with when the Department expects to begin issuing an updated version of the Next Generation Passport book. The primary reason for eliminating visa page inserts is to protect the integrity of the Next Generation Passport books. Further discussion of the reasons for the rule is in the NRPM.

Public Comments

The Department received only one public comment in response to the notice of proposed rulemaking. The following analysis addresses the comment.

The commenter expressed concern that eliminating visa page inserts would be a considerable inconvenience. The commenter wrote that due to the extent of his travels, eliminating visa page inserts would require him to renew his passport every three or four years, even if he is issued the larger 52-page passport book. The commenter also wrote that running out of visa pages in his passport would cause some of his multi-year visas to expire, requiring him to renew his visas early or possibly carry his expired U.S. passport until the visas in it expire.

The Department recognizes that eliminating visa page inserts may pose an inconvenience to a very small number of U.S. passport holders whose travel requires the issuance of multiple visas. The Department has a policy in place to permit the issuance of a second regular fee passport to individuals who require their first passport books for travel while their visa applications are pending with foreign governments. (See 7 FAM 1310 Appendix R c(2) http://www.state.gov/documents/organization/94669.pdf).

The commenter questioned if visa page inserts present a genuine security concern. As described in the NPRM, an interagency working group studied the issue and determined that the elimination of visa page inserts added value to the security features of visa page inserts that far outweighed the inconvenience caused by the elimination of this service, for which there is very limited demand.

Finally, the problems the commenter describes are very rare among U.S. passport holders. The average U.S. passport holder uses six or fewer visa pages. Ninety-seven percent of all U.S. passport holders will have used 17 pages or less by the time they renew their passports. Less than one percent of U.S. passport holders will have used more than 32 pages when they renew their passports. On average, people who apply for visa page inserts for a U.S. passport do so seven years after the passport was issued and 17 percent of these individuals had the smaller passport book to begin with. Accordingly, while the Department certainly understands the commenter's concerns, it still expects the overall impact of this rule on U.S. passport holders to be minimal, and to be outweighed by the security concerns discussed in the NPRM.

Regulatory Findings

The Regulatory Findings included in the NPRM are incorporated herein. See 80 FR at 23755.

List of Subjects in 22 CFR Parts 22 and 51

Consular services, Fees, Passports and visas.

For the reasons stated in the preamble, the Department of State amends 22 CFR parts 22 and 51 as follows:

PART 22—SCHEDULE OF FEES FOR CONSULAR SERVICES—DEPARTMENT OF STATE AND FOREIGN SERVICE

1. The authority citation for part 22 continues to read as follows:

Authority: 8 U.S.C 1101 note, 1153 note, 1183a note, 1351, 1351 note, 1714, 1714 note; 10 U.S.C. 2602(c); 11 U.S.C. 1157 note; 22 U.S.C. 214, 214 note, 1475e, 2504(a), 4201, 4206, 4215, 4219, 6551; 31 U.S.C. 9701; Executive Order 10718, 22 FR 4632; Executive Order 11295, 31 FR 10603.

§ 22.1 [Amended]

2. The table in § 22.1 is amended by removing and reserving item 2c.

PART 51—PASSPORTS

3. The authority citation for part 51 continues to read as follows:

Authority: 8 U.S.C. 1504; 18 U.S.C. 1621; 22 U.S.C. 211a, 212, 213, 213n (Pub. L. 106-113 Div. B, Sec. 1000(a)(7) [Div. A, Title II, Sec. 236], 113 Stat. 1536, 1501A-430); 214, 214a, 217a, 218, 2651a, 2671(d)(3), 2705, 2714, 2721, & 3926; 26 U.S.C. 6039E; 31 U.S.C. 9701; 42 U.S.C. 652(k) [Div. B, Title V of Pub. L. 103-317, 108 Stat. 1760]; E.O. 11295, Aug. 6, 1966, FR 10603, 3 CFR, 1966-1970 Comp., p. 570; Sec. 1 of Pub. L. 109-210, 120 Stat. 319; Sec. 2 of Pub. L. 109-167, 119 Stat. 3578; Sec. 5 of Pub. L. 109-472, 120 Stat. 3554; Pub. L. 108-447, Div. B, Title IV, Dec. 8, 2004, 118 Stat. 2809; Pub. L. 108-458, 118 Stat. 3638, 3823 (Dec. 17, 2004).

4. In § 51.20, paragraph (a) is revised to read as follows:

§ 51.20 General.

(a) An application for a passport, a replacement passport, or other passport related service must be completed using the forms the Department prescribes.

* * * * *

5. In § 51.56, paragraph (a) is revised to read as follows:

§ 51.56 Expedited passport processing.

(a) Within the United States, an applicant for passport service (including issuance or replacement of a passport) may request expedited processing. The Department may decline the request.

* * * * *

Dated: November 12, 2015.
David T. Donahue,
Acting Assistant Secretary for Consular Affairs.

[FR Doc. 2015-29618 Filed 11-19-15; 8:45 am]

BILLING CODE 4710-06-P